DEPARTMENT OF COMMERCE

National Oceanic and Atmospheric Administration

RIN 0648-XG889

Fisheries of the South Atlantic; South Atlantic Fishery Management Council; Public Meeting

AGENCY: National Marine Fisheries Service (NMFS), National Oceanic and Atmospheric Administration (NOAA), Commerce.

ACTION: Notice of public meetings.

SUMMARY: The South Atlantic Fishery Management Council's (Council) will hold a meeting of its Scientific and Statistical Committee (SSC) and Socio-Economic Panel (SEP) in Charleston, SC. See SUPPLEMENTARY INFORMATION.

DATES: The SEP will meet on Monday, April 8, 2019, from 1:30 p.m. to 5:30 p.m.; and Tuesday, April 9, 2019, from 8:30 a.m. to 12 noon. The SSC will meet on Tuesday, April 9, 2019, from 1:30 p.m. to 5:30 p.m.; Wednesday, April 10, 2019, from 8:30 a.m. to 5:30 p.m.; and Thursday, April 11, 2019, 8:30 a.m. to 3 p.m.

ADDRESSES:

Meeting address: The meeting will be held at the Town & Country Inn and Suites, 2008 Savannah Hwy., Charleston, SC 29407; phone: (800) 334-6660 or (843) 571-1000; fax: (843) 766-9444.

Council address: South Atlantic Fishery Management Council, 4055 Faber Place Drive, Suite 201, N Charleston, SC 29405.

FOR FURTHER INFORMATION CONTACT: Kim Iverson, Public Information Officer, 4055 Faber Place Drive, Suite 201, North Charleston, SC 29405; phone: (843) 571-4366 or toll free: (866) SAFMC-10; fax: (843) 769-4520; email: kim.iverson@safmc.net.

SUPPLEMENTARY INFORMATION: The following agenda items will be addressed by the SEP during the meeting:

1. Update on recent Council actions.

2. Discussion of the System Management Plan scorecard.

3. Discussion of social and economic risk tolerance for the Acceptable Biological Catch (ABC) Control Rule Amendment.

4. Review of the Southeast Fisheries Science Center report on the economics of the commercial snapper grouper fishery.

5. Discussion of the social and economic components of the Council's Fishery Performance Reports.

6. Recreational reporting and MyFishCount survey results.

The following agenda items will be addressed by the SSC during the meeting:

1. Updates on Southeast Data, Assessment and Review (SEDAR) projects and the effect of the government shutdown.

2. Presentation on the South Atlantic Ecosystem Model with examples of practical uses. The SSC will provide guidance on future steps and provide direction to staff.

3. Update on ongoing research from NOAA Fisheries' Southeast Fisheries Science Center.

4. Update on the Southeast Reef Fish Survey results from the 2018 sampling year.

5. Review and comment on the ABC Control Rule Amendment and analyses; including preliminary Risk Analysis evaluation and results; Only Reliable Catch Stocks (ORCS) Risk Tolerance scalars; and the guidance from NMFS on Phase-In and Carry Over provisions.

6. Continue discussion on use of the revised MRIP data. Provide guidance and terms of reference for an SSC workshop on vetting and incorporating the revised Marine Recreational Information Program (MRIP) data into future assessments and catch level recommendations for all Council managed stocks.

7. Review and comment on Coral Amendment 10/Shrimp Amendment 11/Golden Crab Amendment 10 and Snapper Grouper Regulatory Amendment 29 addressing Best Fishing Practices and use of powerhead gear by divers.

8. Review the recommendations from the SEP meeting.

9. Review the Council research and monitoring plan.

10. Receive updates and progress reports on ongoing Council amendments and activities.

The SEP and SSC will provide guidance to staff and recommendations for Council consideration as necessary. The meeting is open to the public and will also be available via webinar as it occurs. Webinar registration is required. Information regarding webinar registration will be posted to the Council's website at: http://safmc.net/safmc-meetings/scientific-and-statistical-committee-meetings/ as it becomes available. The meeting agenda, briefing book materials, and online comment form will be posted to the Council's website two weeks prior to the meeting. Written comment on SEP and SSC agenda topics is to be distributed to the Committee through the Council office, similar to all other briefing materials. Written comment to be considered by the SEP and SSC shall be provided to the Council office no later than one week prior to an SSC meeting. For this meeting, the deadline for submission of written comment is 12 p.m., Monday, April 1, 2019.

Multiple opportunities for comment on agenda items will be provided during SSC meetings. Open comment periods will be provided at the start of the meeting and near the conclusion. Those interested in providing comment should indicate such in the manner requested by the Chair, who will then recognize individuals to provide comment. Additional opportunities for comment on specific agenda items will be provided, as each item is discussed, between initial presentations and SSC discussion. Those interested in providing comment should indicate such in the manner requested by the Chair, who will then recognize individuals to provide comment. All comments are part of the record of the meeting.

Although non-emergency issues not contained in the meeting agenda may come before this group for discussion, those issues may not be the subject of formal action during these meetings. Action will be restricted to those issues specifically identified in this notice and any issues arising after publication of this notice that require emergency action under section 305(c) of the Magnuson-Stevens Fishery Conservation and Management Act, provided the public has been notified of the intent to take final action to address the emergency.

Special Accommodations

These meetings are accessible to people with disabilities. Requests for auxiliary aids should be directed to the SAFMC office (see ADDRESSES) at least 5 business days prior to the meeting.

Note: The times and sequence specified in this agenda are subject to change.

Authority: 16 U.S.C. 1801 et seq.

Dated: March 19, 2019.
Tracey L. Thompson,
Acting Deputy Director, Office of Sustainable Fisheries, National Marine Fisheries Service.

[FR Doc. 2019-05569 Filed 3-22-19; 8:45 am]

BILLING CODE 3510-22-P